DEPARTMENT OF AGRICULTURE

Forest Service

Wrangell-Petersburg Resource Advisory Committee

AGENCY: Forest Service, USDA.

ACTION: Notice of meeting.

SUMMARY: The Wrangell-Petersburg Resource Advisory Committee (RAC) will meet in Petersburg, Alaska and Wrangell, Alaska. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following website: https://cloudapps-usda-gov.secure.force.com/FSSRS/RAC_Page?id=001t0000002JcwHAAS.

DATES: The meetings will be held on the following dates:

• Saturday, May 11, 2019, from 8:00 a.m. to 2:00 p.m., and

• Saturday, May 25, 2019, from 8:00 a.m. to 3:00 p.m., or until business is concluded each day.

All RAC meetings are subject to cancellation. For updated status of the meetings prior to attendance, please contact the person listed under For Further information contact.

ADDRESSES: The meeting will be held at the Wrangell Ranger District office, 525 Bennett Street, Wrangell, Alaska, and at the Petersburg Ranger District office, 12 North Nordic Drive, Petersburg, Alaska. The two locations will be connected via videoteleconference. Interested persons may attend in person at either location, or by teleconference. Anyone who would like to attend by teleconference, please contact the person listed under For Further Information Contact.

Written comments may be submitted as described under Supplementary Information. All comments, including names and addresses when provided, are placed in the record and are available for public inspection and copying. The public may inspect comments received at the Petersburg Ranger District Office or the Wrangell Ranger District Office, Monday through Friday at 8:00 a.m. to 4:30 p.m. Please call ahead to facilitate entry into the building.

FOR FURTHER INFORMATION CONTACT: Linda Slaght, RAC Coordinator, by phone at 907-772-5948 or via email at lslaght@fs.fed.us

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Review progress of previously funded projects;

2. Review new project proposals; and

3. Conclude any business that may be remaining concerning recommendations for allocation of Title II funding to projects.

The meeting is open to the public. The agenda will include time for people to make oral statements of three minutes or less. Individuals wishing to make an oral statement should request in writing by Friday, May 3, 2019, to be scheduled on the agenda. Anyone who would like to bring related matters to the attention of the committee may file written statements with the committee staff before or after the meeting. Written comments and requests for time for oral comments may be sent to Linda Slaght, RAC Coordinator, Post Office Box 1328, Petersburg, Alaska 99833; by email to lslaght@fs.fed.us or via facsimile to 907-772-5995.

Meeting Accommodations: If you are a person requiring reasonable accommodation, please make requests in advance for sign language interpreting, assistive listening devices, or other reasonable accommodation. For access to the facility or proceedings, please contact the person listed in the section titled For Further Information Contact. All reasonable accommodation requests are managed on a case by case basis.

Dated: March 29, 2019.
Allen Rowley,
Acting Associate Deputy Chief, National Forest System.

[FR Doc. 2019-07608 Filed 4-16-19; 8:45 am]

BILLING CODE 3411-15-P